FEDERAL MARITIME COMMISSION

[Petition No. P3-17]

Petition of Great White Fleet Liner Services Ltd. and Great White Fleet Corp.; Notice of Filing and Request for Comments

Notice is hereby given that Great White Fleet Liner Services Ltd. and Great White Fleet Corp. (“Petitioners”), have petitioned the Commission pursuant to 46 U.S.C. 40103 of the Shipping Act of 1984 and Rules 92 and 94 of the Commission's Rules of Practice and Procedure, 46 CFR 502.92, and 46 CFR 502.94, for an exemption from “the provisions of 46 CFR 530.10 requiring each service contract amendment to be signed by both parties and filed with the Commission.”

The Petitioners state that a pending corporate restructuring will result in Great White Fleet Liner Services Ltd. transferring agreed upon assets and services to Great White Fleet Corp. As some of the transferred services will be “. . . service contracts with shippers filed with the Commission under the Shipping Act . . . ,” the Petitioners are requesting an exemption from 46 CFR 530.10 that requires “. . . all amendments to service contracts to be manually amended by both parties, including amendments changing the carrier party to a successor carrier, eve to an affiliate.” The Petitioners claim that “. . . approximately 300 service contracts would require manual amendments” which would “place a severe administrative burden upon the carriers and shippers alike . . .” among other issues. The Petitioners claim that “the potential for negative competitive or commercial effects is minimal . . .” due to the terms of their corporate restructuring.

In order for the Commission to make a thorough evaluation of the exemption requested in the Petition, pursuant to 46 CFR 502.92, interested parties are requested to submit views or arguments in reply to the Petition no later than December 27, 2017. Replies shall be sent to the Secretary by email to Secretary@fmc.gov or by mail to Federal Maritime Commission, 800 North Capitol Street NW, Washington, DC 20573-0001, and replies shall be served on Petitioners' counsel, Wade S. Hooker, Law Office of Wade S. Hooker, 211 Central Park W, New York, New York 10024, wadeshooker@gmail.com.

Non-confidential filings may be submitted in hard copy to the Secretary at the above address or by email as a PDF attachment to Secretary@fmc.gov and include in the subject line: P3-17 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's website at http://www.fmc.gov/P3-17. Replies filed in response to the Petition will also be posted on the Commission's website at this location.

Rachel E. Dickon,
Assistant Secretary.

[FR Doc. 2017-26819 Filed 12-12-17; 8:45 am]

BILLING CODE 6731-AA-P